DEPARTMENT OF COMMERCE

International Trade Administration

[A-533-840]

Certain Frozen Warmwater Shrimp From India: Final Results of Antidumping Duty Administrative Review; 2017-2018

AGENCY: Enforcement and Compliance, International Trade Administration, Department of Commerce.

SUMMARY: The Department of Commerce (Commerce) determines that certain frozen warmwater shrimp (shrimp) from India is being, or is likely to be, sold in the United States at less than normal value during the period of review (POR) February 1, 2017 through January 31, 2018.

DATES: Applicable October 29, 2019.

FOR FURTHER INFORMATION CONTACT: Manuel Rey or Brittany Bauer, AD/CVD Operations, Office II, Enforcement and Compliance, International Trade Administration, U.S. Department of Commerce, 1401 Constitution Avenue NW, Washington, DC 20230; telephone: (202) 482-5518 or (202) 482-3860, respectively.

SUPPLEMENTARY INFORMATION:

Background

Commerce is conducting an administrative review of the antidumping duty order on shrimp from India. This review covers six producers and/or exporters of the subject merchandise. Commerce selected two mandatory respondents for individual examination: Calcutta Seafoods Pvt. Ltd./Bay Seafood Pvt. Ltd./Elque & Co. (collectively, the Elque Group); and Magnum Sea Foods Limited/Magnum Estates Limited (collectively, Magnum). The producers/exporters which were not selected for individual examination are listed in the “Final Results of the Review” section of this notice.

On April 23, 2019, Commerce published the Preliminary Results.¹ On May 22 and 23, 2019, we received case briefs from the Elque Group and Magnum, respectively. On May 28, 2019, we received a rebuttal brief from the petitioner.²

¹ See Certain Frozen Warmwater Shrimp from India: Preliminary Results of Antidumping Duty Administrative Review; 2017-2018, 84 FR 16843 (April 23, 2019) (Preliminary Results).

² The petitioner is the Ad Hoc Shrimp Trade Action Committee.

Scope of the Order

The merchandise subject to the order is certain frozen warmwater shrimp.³ The product is currently classified under the following Harmonized Tariff Schedule of the United States (HTSUS) item numbers: 0306.17.00.03, 0306.17.00.06, 0306.17.00.09, 0306.17.00.12, 0306.17.00.15, 0306.17.00.18, 0306.17.00.21, 0306.17.00.24, 0306.17.00.27, 0306.17.00.40, 1605.21.10.30, and 1605.29.10.10. Although the HTSUS numbers are provided for convenience and customs purposes, the written product description remains dispositive.

³ For a complete description of the Scope of the Order, see Memorandum, “Issues and Decision Memorandum for the Final Results of the 2017-2018 Antidumping Duty Administrative Review of Certain Frozen Warmwater Shrimp from India,” dated concurrently with, and hereby adopted by, this notice (IDM).

Analysis of Comments Received

All issues raised in the case briefs by parties are listed in the appendix to this notice and addressed in the IDM. Parties can find a complete discussion of these issues and the corresponding recommendations in this public memorandum, which is on file electronically via Enforcement and Compliance's Antidumping and Countervailing Duty Centralized Electronic Service System (ACCESS). ACCESS is available to registered users at http://access.trade.gov; the IDM is also available to all parties in the Central Records Unit, Room B8024, of the main Commerce building. In addition, a complete version of the IDM can be accessed directly at http://enforcement.trade.gov/frn/index.html. The signed IDM and the electronic version of the IDM are identical in content.

Final Results of the Review

We are assigning the following dumping margins to the firms listed below for the POR February 1, 2017 through January 31, 2018:

Exporter/producer | Weighted-average dumping margin (percent)
Calcutta Seafoods Pvt. Ltd./Bay Seafood Pvt. Ltd./Elque & Co | 110.90
Magnum Sea Foods Limited/Magnum Estates Limited | 1.87

Review-Specific Average Rate Applicable to the Following Companies: ⁴

⁴ This rate is based on the rates for the respondents that were selected for individual review, excluding rates that are zero, de minimis or based entirely on facts available. See section 735(c)(5)(A) of the Tariff Act of 1930, as amended (the Act).

Exporter/producer | Weighted-average dumping margin (percent)
Blue-Fin Frozen Foods Pvt. Ltd | 1.87
Crystal Sea Foods Private Limited | 1.87
Forstar Frozen Foods Pvt. Ltd | 1.87
Milsha Agro Exports Pvt. Ltd | 1.87

Assessment Rates

Commerce shall determine, and U.S. Customs and Border Protection (CBP) shall assess, antidumping duties on all appropriate entries.

Pursuant to 19 CFR 351.212(b)(1), because Magnum reported the entered value for all its U.S. sales, we calculated importer-specific ad valorem duty assessment rates based on the ratio of the total amount of antidumping duties calculated for the examined sales to the total entered value of the sales for which entered value was reported. To determine whether the duty assessment rates are de minimis, in accordance with the requirement set forth in 19 CFR 351.106(c)(2), we calculated importer-specific ad valorem ratios based on the entered value.

For the companies which were not selected for individual examination, we used, as the assessment rate, the cash deposit rate assigned to Magnum, in accordance with our practice.⁵

⁵ See, e.g., Certain Frozen Warmwater Shrimp from India: Final Results of Antidumping Duty Administrative Review; 2016-2017, 83 FR 32835 (July 16, 2018).

Commerce's “automatic assessment” practice will apply to entries of subject merchandise during the POR produced by Magnum for which it did not know that the merchandise was destined for the United States. In such instances, we will instruct CBP to liquidate unreviewed entries at the all-others rate if there is no rate for the intermediate company(ies) involved in the transaction.⁶

⁶ For a full discussion of this practice, see Antidumping and Countervailing Duty Proceedings: Assessment of Antidumping Duties, 68 FR 23954 (May 6, 2003).

Commerce intends to issue assessment instructions to CBP 15 days after the date of publication of these final results of review.

Cash Deposit Requirements

The following cash deposit requirements will be effective for all shipments of subject merchandise entered, or withdrawn from warehouse, for consumption on or after the publication date of the final results of this administrative review, as provided by section 751(a)(2)(C) of the Act: (1) The cash deposit rates for the reviewed companies will be the rates shown above, except if the rate is less than 0.50 percent (de minimis within the meaning of 19 CFR 351.106(c)(1)), the cash deposit will be zero; (2) for previously reviewed or investigated companies not listed above, the cash deposit rate will continue to be the company-specific rate published for the most recent period; (3) if the exporter is not a firm covered in this review, a previous review, or the original less-than-fair-value (LTFV) investigation, but the manufacturer is, the cash deposit rate will be the rate established for the most recent period for the manufacturer of the merchandise; and (4) the cash deposit rate for all-other manufacturers or exporters will continue to be 10.17 percent, the all-others rate established in the LTFV investigation.⁷ These deposit requirements, when imposed, shall remain in effect until further notice.

⁷ See Notice of Amended Final Determination of Sales at Less Than Fair Value and Antidumping Duty Order: Certain Frozen Warmwater Shrimp from India, 70 FR 5147, 5148 (February 1, 2005).

Notification to Importers

This notice serves as the only reminder to importers of their responsibility, under 19 CFR 351.402(f)(2), to file a certificate regarding the reimbursement of antidumping duties prior to liquidation of the relevant entries during this review period. Failure to comply with this requirement could result in Commerce's presumption that reimbursement of antidumping duties occurred and the subsequent assessment of double antidumping duties.

Administrative Protective Order

In accordance with 19 CFR 351.305(a)(3), this notice also serves as a reminder to parties subject to administrative protective order (APO) of their responsibility concerning the return or destruction of proprietary information disclosed under the APO, which continues to govern business proprietary information in this segment of the proceeding. Timely written notification of the return or destruction of APO materials or conversion to judicial protective order is hereby requested. Failure to comply with the regulations and terms of an APO is a violation subject to sanction.

Notification to Interested Parties

We are issuing and publishing this notice in accordance with sections 751(a)(1) and 777(i) of the Act and 19 CFR 351.213(h).

Dated: October 21, 2019.
Jeffrey I. Kessler,
Assistant Secretary for Enforcement and Compliance.

Appendix

List of Topics Discussed in the IDM

I. Summary

II. Background

III. Scope of the Order

IV. Discussion of the Issues

Comment 1: Differential Pricing

Comment 2: Adverse Facts Available

V. Recommendation

[FR Doc. 2019-23534 Filed 10-28-19; 8:45 am]

BILLING CODE 3510-DS-P